DEPARTMENT OF HEALTH AND HUMAN SERVICES

National Healthcare Preparedness Programs (NHPP); Single Source Cooperative Agreement to the American Red Cross

AGENCY: Office of the Assistant Secretary for Preparedness and Response (ASPR), Department of Health and Human Services (HHS).

ACTION: Notice.

SUMMARY: The National Healthcare Preparedness Programs (NHPP) Branch of the Office of the Assistant Secretary for Preparedness and Response (ASPR), in the Department of Health and Human Services intends to provide a Single Source Cooperative Agreement to the American Red Cross. The Cooperative Agreement will support the stability of the American Red Cross blood operations and humanitarian services during the COVID-19 pandemic. The total proposed cost of the Single Source Cooperative Agreement is not to exceed $118,000,000 for a total of 12 months.

DATES: The period of performance is from June 22, 2020 to June 21, 2021. The recipient may use a portion of the funding to retroactively compensate costs for preparedness activities undertaken since January 20, 2020. The recipient must request retroactive compensation at the time of the application, and the request should contain the following information: Time period; line item budget for the period; and, narrative description of the COVID-19 preparedness activities. Award amount: Estimate $118,000,000.

FOR FURTHER INFORMATION CONTACT: Jennifer.Hannah@hhs.gov, (202) 245-0722.

SUPPLEMENTARY INFORMATION: The National Healthcare Preparedness Program (NHPP) Branch is the program office for this Cooperative Agreement:

Single Source Justification: The American Red Cross is both the largest provider of blood products in the nation and the largest global humanitarian network, as well as a critical partner to the U.S. Government in bolstering the strength of health care during national emergencies. The American Red Cross and NHPP will collaborate to maintain American Red Cross operations and support the nation's health care during the COVID-19 pandemic. This collaboration will enable hospitals and other health care entities to meet demand for blood supply and avoid shortages of this lifesaving medical resource, as well as sustain the American Red Cross's disaster relief work, which provides supplies, financial assistance, food, and connections to health care providers to communities during large scale disasters. During this unprecedented outbreak, it is particularly important to maintain continuity of vital disaster relief operations and to preserve the strength of America's blood supply. The American Red Cross is facing increased costs—for example, for supplies and equipment related to infection control during blood donation operations. As the nation moves out of response and into recovery from COVID-19, it will be vital to maintain operations in order to ensure communities have uninterrupted access to the American Red Cross's frontline humanitarian services and to prevent health care from facing blood supply shortages at an already precarious time. There is no direct equivalent of the American Red Cross, which supported more than 97,300 households with recovery assistance and provided over 6.4 million blood products to help patients in Fiscal Year 2019 and which is uniquely positioned to quickly respond to the demands of the health care system. Supporting collaboration between the U.S. Public Health Service and public and private community health programs and agencies to respond to health emergencies is an authority provided to HHS under section 311(c)(1) of the Public Health Service Act. Funding to respond to the coronavirus, including addressing the blood supply chain, is appropriated to HHS in the CARES Act. Collaboration with the American Red Cross has the potential to augment existing nationwide COVID-19 community relief efforts, and to provide solutions and mitigate risks to the nation's blood supply. The dual protection of American Red Cross's humanitarian aid network and its blood operations, a piece of critical infrastructure for the United States health care system, is essential to ASPR's mission to save lives and protect Americans against 21st century health security threats. By collaborating with the American Red Cross to meet new challenges and costs incurred by the COVID-19 pandemic, maintain blood supply and continuity of relief services, and strengthen partnerships between the American Red Cross and health care coalitions supported through NHPP's Hospital Preparedness Program, NHPP's goal for this cooperative agreement is for health care to be able to quickly draw upon a strong public-private partnership and humanitarian network to provide lifesaving medical care for Americans—now and in the future as the United States continues to recover from this pandemic event.

Dated: June 18, 2020.
Robert P. Kadlec,
Assistant Secretary for Preparedness and Response.

[FR Doc. 2020-13492 Filed 6-22-20; 8:45 am]

BILLING CODE 4150-37-P